SUSQUEHANNA RIVER BASIN COMMISSION

Public Hearing

AGENCY: Susquehanna River Basin Commission.

ACTION: Notice.

SUMMARY: The Susquehanna River Basin Commission will hold a public hearing on April 24, 2025. The Commission will hold this hearing in person and telephonically. At this public hearing, the Commission will hear testimony on the projects listed in the Supplementary Information section of this notice. Such projects and actions are intended to be scheduled for Commission action at its next business meeting, tentatively scheduled for June 4, 2025, which will be noticed separately. The public should note that this public hearing will be the only opportunity to offer oral comments to the Commission for the listed projects and actions. The deadline for the submission of written comments is May 5, 2025.

DATES: The public hearing will convene on April 24, 2025, at 6:00 p.m. The public hearing will end at 9:00 p.m. or at the conclusion of public testimony, whichever is earlier. The deadline for submitting written comments is Monday, May 5, 2025.

ADDRESSES: This public hearing will be conducted in person and telephonically. You may attend in person at Susquehanna River Basin Commission, 4423 N Front St., Harrisburg, Pennsylvania, or join by telephone at Toll-Free Number 1-877-304-9269 and then enter the guest passcode 2619070 followed by #.

FOR FURTHER INFORMATION CONTACT: Jason Oyler, General Counsel and Secretary to the Commission, telephone: (717) 238-0423 or joyler@srbc.gov.

Information concerning the project applications is available at the Commission's Water Application and Approval Viewer at https://www.srbc.gov/waav. Additional supporting documents are available to inspect and copy in accordance with the Commission's Access to Records Policy at www.srbc.gov/regulatory/policies-guidance/docs/access-to-records-policy-2009-02.pdf.

SUPPLEMENTARY INFORMATION: The public hearing will cover the following projects:

Projects Scheduled for Action

1. Project Sponsor: BlueTriton Brands, Inc. Project Facility: Big Spring, Spring Township, Centre County, Pa. Applications for consumptive use of up to 0.247 mgd (peak day) and an out-of-basin diversion of up to 0.247 mgd (peak day).

2. Project Sponsor: Chester County Solid Waste Authority. Project Facility: Lanchester Landfill, Caernarvon and Salisbury Townships, Lancaster County, and Honey Brook Township, Chester County, Pa. Applications for renewal with modification of consumptive use of up to 0.099 mgd (30-day average) and an out-of-basin diversion of up to 0.099 mgd (30-day average) (Docket No. 20100602). Located in an Environmental Justice area.

3. Project Sponsor: Columbia Water Company. Project Facility: East Donegal Division, East Donegal Township, Lancaster County, Pa. Application for renewal of groundwater withdrawal of up to 0.324 mgd (30-day average) from Well 2 (Docket No. 19990702).

4. Project Sponsor and Facility: Expand Operating LLC (Susquehanna River), Great Bend Township, Susquehanna County, Pa. Application for renewal with modification of surface water withdrawal of up to 3.500 mgd (peak day) (Docket No. 20241214).

5. Project Sponsor and Facility: Expand Operating LLC (Susquehanna River), Mehoopany Township, Wyoming County, Pa. Application for renewal with modification of surface water withdrawal of up to 3.700 mgd (peak day) (Docket No. 20220602).

6. Project Sponsor and Facility: Fredericksburg Sewer and Water Authority, Bethel Township, Lebanon County, Pa. Applications for groundwater withdrawals (30-day averages) of up to 0.158 mgd from Well 7 and 0.144 mgd from Well 8.

7. Project Sponsor and Facility: Knoebels Three Ponds, Inc., Ralpho Township, Northumberland County, Pa. Application for consumptive use of up to 0.249 mgd (30-day average).

8. Project Sponsor: Mott's LLP. Project Facility: Aspers Plant, Menallen Township, Adams County, Pa. Applications for renewal of groundwater withdrawals (30-day averages) of up to 0.181 mgd from Well 7, 0.165 mgd from Well 9, and 0.236 mgd from Well 10; renewal with modification to increase to 0.396 mgd from Well 11; and consumptive use of up to 0.990 mgd (peak day) (Docket Nos. 19940303 and 20010204).

9. Project Sponsor and Facility: New Holland Borough Authority, Earl Township, Lancaster County, Pa. Application for renewal of groundwater withdrawal of up to 0.790 mgd (30-day average) from Well 3 (Docket No. 19950307). Located in an Environmental Justice area.

10. Project Sponsor: Penn-View, Inc. Project Facility: Wyncote Golf Club, Lower Oxford Township, Chester County, Pa. Application for renewal with modification of consumptive use of up to 0.350 mgd (30-day average) (Docket No. 20000802).

11. Project Sponsor: Pixelle Specialty Solutions LLC. Project Facility: Spring Grove Mill (Codorus Creek), Spring Grove Borough and North Codorus and Jackson Townships, York County, Pa. Modification to increase the maximum instantaneous withdrawal rate (Docket No. 20200912).

12. Project Sponsor and Facility: Rausch Creek Generation, LLC, Frailey and Tremont Townships, Schuylkill County, Pa. Applications for renewal of consumptive use of up to 0.930 mgd (peak day) and groundwater withdrawals (30-day averages) of up to 1.120 mgd from the Lykens Well and 1.120 mgd from the Westwood Well (Docket No. 19990301). Located in an Environmental Justice area.

13. Project Sponsor and Facility: Stewartstown Borough Authority, Hopewell Township, York County, Pa. Application for renewal of groundwater withdrawal of up to 0.058 mgd (30-day average) from Well 7 (Docket No. 19950306).

14. Project Sponsor and Facility: Upper Halfmoon Water Company, Halfmoon Township, Centre County, Pa. Application for renewal of groundwater withdrawal of up to 0.396 mgd (30-day average) from Well 5 (Docket No. 19930502).

15. Project Sponsor: Veolia Water Pennsylvania, Inc. Project Facility: Newberry Operation, Newberry Township, York County, Pa. Application for renewal of groundwater withdrawal of up to 0.140 mgd (30-day average) from Conley 2 Well (Docket No. 19940708).

16. Project Sponsor: Village of Bath. Project Facility: Bath Electric, Gas and Water Systems, Town of Bath, Steuben County, N.Y. Application for renewal of groundwater withdrawal of up to 0.840 mgd (30-day average) from Well 8 (Docket No. 19980105).

17. Project Sponsor: York Building Products Co., Inc. Project Facility: Bonnybrook Quarry, South Middleton Township, Cumberland County, Pa. Application for consumptive use of up to 0.090 mgd (30-day average).

Public Hearing—Commission-Initiated Project Approval Modification

18. Project Sponsor: Republic Services of Pennsylvania, LLC. Project Facility: Modern Landfill, Windsor and Lower Windsor Townships, York County, Pa. Conforming the grandfathered amount with the forthcoming determination for consumptive use of up to 0.044 mgd (30-day average) (Docket No. 20160906).

Opportunity To Appear and Comment

Interested parties may appear or call into the hearing to offer comments to the Commission on any business listed above required to be the subject of a public hearing. Given the nature of the meeting, the Commission strongly encourages those members of the public wishing to provide oral comments to pre-register with the Commission by emailing Jason Oyler at joyler@srbc.gov before the hearing date. The presiding officer reserves the right to limit oral statements in the interest of time and to control the course of the hearing otherwise. Access to the hearing via telephone will begin at 5:45 p.m. Guidelines for the public hearing are posted on the Commission's website, www.srbc.gov, before the hearing for review. The presiding officer reserves the right to modify or supplement such guidelines at the hearing. Written comments on any business listed above required to be the subject of a public hearing may also be mailed to Mr. Jason Oyler, Secretary to the Commission, Susquehanna River Basin Commission, 4423 North Front Street, Harrisburg, Pa. 17110-1788, or submitted electronically through https://www.srbc.gov/meeting-comment/default.aspx?type=2&cat=7. Comments mailed or electronically submitted must be received by the Commission on or before Monday, May 5, 2025.

Authority: Pub. L. 91-575, 84 Stat. 1509 et seq., 18 CFR parts 806, 807, and 808.

Dated: March 24, 2025.
Jason E. Oyler,
General Counsel and Secretary to the Commission.

[FR Doc. 2025-05299 Filed 3-27-25; 8:45 am]

BILLING CODE 7040-01-P